ENVIRONMENTAL PROTECTION AGENCY

[FRL-9289-3]

Casmalia Disposal Site; Notice of Proposed CERCLA Administrative De Minimis Settlement

AGENCY: Environmental Protection Agency (EPA).

ACTION: Notice; request for public comment.

SUMMARY: In accordance with section 122(i) of the Comprehensive Environmental Response, Compensation, and Liability Act, as amended (CERCLA) and section 7003 of the Resource Conservation and Recovery Act (RCRA), EPA is hereby providing notice of a proposed administrative de minimis settlement concerning the Casmalia Disposal Site in Santa Barbara County, California (the Casmalia Disposal Site). Section 122(g) of CERCLA provides EPA with the authority to enter into administrative de minimis settlements. This settlement is intended to resolve the liabilities of 49 settling parties for the Casmalia Disposal Site under sections 106 and 107 of CERCLA and section 7003 of RCRA. These parties are identified below. These parties have also elected to resolve their liability for response costs and potential natural resource damage claims by the United States Fish and Wildlife Service (USFWS) and the National Oceanic and Atmospheric Administration (NOAA). These 49 parties sent 13,311,191 lbs. of waste to the Casmalia Disposal Site, which represents 0.002 (0.2%) of the total Site waste of 5.6 billion pounds. This settlement requires these parties to pay over $1.2 million to EPA.

Settling Parties: Parties that have elected to settle their liability with EPA at this time are as follows:

All Metal Processing of Orange County; Allen Foam Corporation; American Pharmaseal Labs; Amex Systems, Inc; Associated Plating Company, Inc.; AT&T Communication, Inc., other subsidiaries of AT&T, Inc., and Alcatel-Lucent USA Inc. as successor in interest to the claims asserted against Western Electric Company, Inc. and AT&T Technologies, Inc; Avery Dennison Corporation; B/E Aerospace; BAE Systems Information and Electronic Systems Integration Inc.; Cenveo; ConAgra Foods, Inc.; Continental Chemical Co.; Cosden Oil & Chemical Company; Del Mar Development Company, Inc.; Fortin Industries, Inc.; Four Seasons Hotels and Resorts; Fremont Union High School District; Garratt-Callahan Company; Gearhart Industries; General Tire Service; Hercules, Incorporated for itself, Mica Corporation and US Filter; Hobie Cat (f/k/a Coast Catamaran Corp); Inland Kenworth, Inc.; Ken Dale; L-3 Communication Corporation; Life Technologies Corporation; Macy's Inc; Manhattan Beach Holding Corp. on its own behalf and on behalf of Fairchild Industries, Inc. and its successors, and on behalf of Fairchild Controls Corporation, Matra Aerospace, Inc., EADS North America, Inc., and EADS North America; MarBorg Industries; Maxwell Technologies, Inc.; Memorex Telex Corporation/Unisys; Mountain High Ski Resort; Newell Rubbermaid, Inc.; Nowsco Services, Inc.; Orange County Plating Co., Inc.; Parker Hannifin Corporation, successor-in-interest to Racor Industries, Inc, by merger; Rainbow Disposal; Roberts Holdings, LLC; SoilServ; State Industries; Sunkist Growers, Inc.; Texas Eastern Corporation; The Hon Company; The Sherwin-Williams Company; Ultrasystems Inc. by and through its legal successor-in-interest, LG&E Power Inc.; Univar USA, Inc.; Valley Nissan Volvo, Inc.; Verbatim Corporation; Weyerhaeuser NR Company as successor to Western Kraft (f/k/a Willamette Industries).

DATES: EPA will receive written comments relating to the settlement until May 4, 2011. EPA will consider all comments it receives during this period, and may modify or withdraw consent to the settlement if any comments disclose facts or considerations indicating that the settlement is inappropriate, improper, or inadequate.

Public Meeting: In accordance with section 7003(d) of RCRA, 42 U.S.C. 6973(d), commenters may request an opportunity for a public meeting in the affected area. The deadline for requesting a public meeting is April 18, 2011. Requests for a public meeting may be made by contacting Karen Goldberg by e-mail at goldberg.karen@epa.gov, or by facsimile at (415) 947-3570. If a public meeting is requested, information about the date and time of the meeting will be published in the local newspaper, The Santa Maria Times, and will be sent to persons on the EPA's Casmalia Site mailing list. To be added to the mailing list, please contact:

Jackie Lane at (415) 972-3236 or by e-mail at lane.jackie@epa.gov. A copy of the settlement document may be obtained by calling (415) 369-0559 extension 10, and leaving a message with your name, phone number, and mailing address or e-mail address.

ADDRESSES: Written comments should be addressed to Karen Goldberg, U.S. Environmental Protection Agency Region IX, 75 Hawthorne Street (mail code RC-3), San Francisco, California 94105-3901, or may be faxed to her at (415) 947-3570 or sent by e-mail to goldberg.karen@epa.gov.

FOR FURTHER INFORMATION CONTACT: Additional information about the Casmalia Disposal Site and about the proposed settlement may be obtained on the EPA-maintained Casmalia Web site at: http://www.epa.gov/region09/casmalia or by calling Karen Goldberg at (415) 972-3951.

Dated: March 21, 2011.
Jane Diamond,
Director, Superfund Division, Region IX.

[FR Doc. 2011-7904 Filed 4-1-11; 8:45 am]

BILLING CODE 6560-50-P